FEDERAL COMMUNICATIONS COMMISSION

47 CFR Part 22

[DA 00-1654]

Amendment of the Geographic Channel Block Layout for Commercial Aviation Air-Ground Systems in the Air-Ground Radiotelephone Service

AGENCY: Federal Communications Commission.

ACTION: Final rule.

SUMMARY: This document amends the geographical channel block layout for commercial aviation air-ground systems licensed in the Air-Ground Radiotelephone Service. These systems provide telephone service over a wireless air-ground link to the telephones that are installed in commercial airliners for use by passengers during flights. The purpose of this action is to update the geographic channel block layout set forth in the Commission's rules such that it correctly lists the reference locations and channel block allotments for currently operating ground stations in this service.

DATES: Effective September 11, 2000.

FOR FURTHER INFORMATION CONTACT: B.C. “Jay” Jackson, Jr., Wireless Telecommunications Bureau at (202) 418-1309.

SUPPLEMENTARY INFORMATION: The action amends the geographical channel block layout for commercial aviation air-ground systems licensed in the Air-Ground Radiotelephone Service (47 CFR Part 22, Subpart G). These systems provide telephone service to the seat-back and bulkhead telephones installed in commercial airliners for use by passengers during flights. The wireless link between public telephone networks on the ground and an airborne aircraft so equipped is established by these systems. Each system comprises 50 or more full-power ground stations. Rule 47 CFR 22.859 requires, among other things, that each full-power ground station must (1) be located within 1.6 kilometers (1 mile) of one of the locations (defined by the geographic coordinates—latitude and longitude) listed in the geographic channel block layout set forth in that rule section, and (2) operate only on the channel block allotted in the geographic channel block layout for that location. As an exception, 47 CFR 22.859(b) provides that a full-power ground station may be established at a location that is more than 550 miles from all other full-power ground station locations on the same channel block. In 1993 and 1994, the commercial aviation air-ground system licensees filed petitions for rule making requesting various minor changes and corrections to a few of the locations and channel block allotments listed in 47 CFR 22.859. On various occasions since then, the licensees have requested and been granted special temporary authorizations waiving 47 CFR 22.859, allowing them to establish ground stations at locations that exceed, by a small margin, the 1.6 kilometer proximity requirement, and/or to operate on channel block assignments other than those listed in the geographic channel block layout. However, in each case, the intent of the rule (that all operating stations be located in close proximity in order to minimize interference due to Doppler frequency shift) continued to be served, and furthermore, all of the licensees concurred in the changes. Taking into account the accumulated location and channel block changes, this action amends 47 CFR 22.859 to conform and update it, so that the geographic channel block layout therein will correctly list the currently authorized locations and channel block allotments. This action was taken by the Deputy Chief, Wireless Telecommunications Bureau, FCC, pursuant to delegated authority (47 CFR 0.331), in a letter addressed to the commercial aviation air-ground radiotelephone system licensees. This letter, dated July 25, 2000 and released to the public on July 26, 2000, is available for inspection and copying during normal business hours in the FCC Reference Center, 445 Twelfth Street, S.W., Washington, D.C. 20554. A copy of the letter may be purchased from the Commission's copy contractor, International Transcription Service, Inc., 1231 20th Street, N.W., Washington, D.C. 20036 (202) 857-3800.

List of Subjects in 47 CFR Part 22

Communications common carriers, Communications equipment, Radio.

Federal Communications Commission.
Magalie Roman Salas,
Secretary.

Rule Changes

For the reasons discussed in the preamble, the Federal Communications Commission amends 47 CFR part 22 as follows:

PART 22—PUBLIC MOBILE SERVICES

1. The authority citation for part 22 continues to read as follows:

Authority: 47 U.S.C. 154, 222, 303, 309, and 332.

2. Section 22.859 is amended by revising the introductory text including the table to read as follows:

§ 22.859 Geographical channel block layout.

Except as provided in paragraphs (a) and (b) of this section, each ground station location must be within 1.6 kilometers (one mile) of one of the locations listed in this paragraph. The channel block allotted for each location must be used to provide service to airborne mobile stations in flight and may be used to provide service to airborne mobile stations on the ground.

Note: All geographic coordinates are referenced to North American Datum 1983 (NAD83).

Location | N. latitude | W. longitude | Channel block
ALASKA:
Anchorage | 61°11′04″ | 149°54′50″ | 8
Cordova | 60°29′38″ | 145°28′17″ | 5
Ketchikan | 55°21′10″ | 131°42′20″ | 5
Juneau | 58°21′17″ | 134°34′36″ | 4
Sitka | 57°03′03″ | 135°20′23″ | 7
Yakutat | 59°32′22″ | 139°44′10″ | 2
ALABAMA:
Birmingham | 33°23′24″ | 86°39′59″ | 2
ARIZONA:
Phoenix | 33°35′39″ | 112°05′15″ | 4
Winslow | 35°01′17″ | 110°43′04″ | 6
ARKANSAS:
Pine Bluff | 34°10′56″ | 91°56′18″ | 8
CALIFORNIA:
Burbank | 34°11′44″ | 118°21′31″ | 4
Blythe | 33°36′39″ | 114°42′27″ | 10
Los Angeles | 33°56′45″ | 118°23′06″ | 3
Oakland | 37°51′54″ | 122°13′15″ | 1
Red Bluff | 40°04′34″ | 122°10′38″ | 8
San Francisco | 37°41′15″ | 122°26′05″ | 6
San Jose | 37°20′56″ | 121°54′01″ | 5
Visalia | 36°19′36″ | 119°23′25″ | 7
COLORADO:
Colorado Springs | 38°44′39″ | 104°51′48″ | 8
Bennet | 39°51′24″ | 104°35′53″ | 1
Hayden | 40°29′04″ | 107°13′10″ | 6
FLORIDA:
Miami | 25°48′28″ | 80°16′29″ | 4
Orlando | 28°26′54″ | 81°21′59″ | 2
Tallahassee | 30°24′03″ | 84°21′18″ | 7
GEORGIA:
Atlanta | 33°39′05″ | 84°25′54″ | 5
St Simons Island | 31°09′23″ | 81°23′13″ | 6
HAWAII:
Mauna Kapu | 21°24′13″ | 158°05′52″ | 5
IDAHO:
Blackfoot | 43°11′34″ | 112°21′00″ | 8
Caldwell | 43°38′45″ | 116°38′47″ | 10
ILLINOIS:
Chicago | 41°46′49″ | 87°45′20″ | 3
Kewanee | 41°12′05″ | 89°57′33″ | 5
Schiller Park | 41°57′18″ | 87°52′57″ | 2
INDIANA:
Fort Wayne | 40°59′16″ | 85°11′31″ | 7
IOWA:
Des Moines | 41°31′58″ | 93°38′55″ | 1
KANSAS:
Garden City | 37°59′35″ | 100°54′06″ | 3
Wichita | 37°37′24″ | 97°27′16″ | 7
KENTUCKY:
Fairdale | 38°04′48″ | 85°47′33″ | 6
LOUISIANA:
Kenner | 30°00′28″ | 90°13′49″ | 3
Shreveport | 32°27′10″ | 93°49′39″ | 5
MASSACHUSETTS:
Boston | 42°23′15″ | 71°01′01″ | 7
MICHIGAN:
Bellville | 42°12′17″ | 83°29′09″ | 8
Flint | 42°58′21″ | 83°44′22″ | 9
Sault Saint Marie | 46°28′45″ | 84°21′31″ | 6
MINNESOTA:
Bloomington | 44°51′30″ | 93°13′20″ | 9
MISSISSIPPI:
Meridian | 32°19′11″ | 88°41′33″ | 9
MISSOURI:
Kansas City | 39°18′13″ | 94°41′05″ | 6
St. Louis | 38°42′45″ | 90°19′19″ | 4
Springfield | 37°14′28″ | 93°22′55″ | 9
MONTANA:
Lewistown | 47°02′56″ | 109°27′30″ | 5
Miles City | 46°25′30″ | 105°52′32″ | 8
Missoula | 47°01′05″ | 114°00′44″ | 3
NEBRASKA:
Grand Island | 40°58′00″ | 98°19′12″ | 2
Ogallala | 41°07′11″ | 101°45′39″ | 4
NEVADA:
Las Vegas | 36°05′35″ | 115°10′28″ | 1
Reno | 39°35′13″ | 119°55′56″ | 4
Tonopah | 38°03′43″ | 117°13′27″ | 9
Winnemucca | 41°00′39″ | 117°46′01″ | 3
NEW MEXICO:
Alamogordo | 32°54′46″ | 105°56′43″ | 8
Albuquerque | 35°03′05″ | 106°37′15″ | 10
Aztec | 36°48′42″ | 107°53′50″ | 9
Clayton | 36°27′29″ | 103°11′18″ | 5
NEW JERSEY:
Woodbury | 39°50′01″ | 75°09′20″ | 3
NEW YORK:
E. Elmhurst | 40°46′21″ | 73°52′40″ | 1
Schuyler | 43°09′09″ | 75°07′49″ | 2
Staten Island | 40°36′05″ | 74°06′34″ | 9
NORTH CAROLINA:
Greensboro | 36°05′54″ | 79°56′41″ | 9
Wilmington | 34°16′11″ | 77°54′23″ | 3
NORTH DAKOTA:
Dickinson | 46°51′05″ | 102°47′37″ | 7
OHIO:
Pataskala | 40°04′05″ | 82°42′00″ | 1
OKLAHOMA:
Warner | 35°29′31″ | 95°18′26″ | 4
Woodward | 36°24′42″ | 99°28′51″ | 9
OREGON:
Albany | 44°38′23″ | 123°03′40″ | 5
Klamath Falls | 42°06′30″ | 121°38′04″ | 2
Pendleton | 45°35′44″ | 118°31′06″ | 7
PENNSYLVANIA:
Coraopolis | 40°30′33″ | 80°13′26″ | 4
New Cumberland | 40°11′30″ | 76°52′01″ | 8
SOUTH CAROLINA:
Charleston | 32°54′11″ | 80°01′19″ | 4
SOUTH DAKOTA:
Aberdeen | 45°27′21″ | 98°25′27″ | 6
Rapid City | 44°02′36″ | 103°03′38″ | 5
TENNESSEE:
Elizabethton | 36°26′04″ | 82°08′05″ | 7
Memphis | 35°01′44″ | 89°56′15″ | 10
Nashville | 36°08′07″ | 86°41′39″ | 3
TEXAS:
Bedford | 32°′45″ | 97°07′20″ | 1
Houston | 29°54′38″ | 95°24′40″ | 2
Lubbock | 33°37′06″ | 101°52′16″ | 7
Monahans | 31°34′58″ | 102°54′20″ | 6
UTAH:
Abajo Peak | 37°50′21″ | 109°27′44″ | 7
Delta | 39°23″15′ | 112°30′47″ | 2
Escalante | 37°45′19″ | 111°52′30″ | 5
Green River | 38°57′54″ | 110°13′43″ | 3
Salt Lake City | 40°39′11″ | 112°12′09″ | 1
VIRGINIA:
Arlington | 38°52′55″ | 77°06′17″ | 6
WASHINGTON:
Seattle | 47°26′07″ | 122°17′39″ | 4
Cheney | 47°33′14″ | 117°43′39″ | 1
WEST VIRGINIA:
Charleston | 38°19′47″ | 81°39′35″ | 2
WISCONSIN:
Stevens Point | 44°33′06″ | 89°25′27″ | 8
WYOMING:
Riverton | 43°03′37″ | 108°27′25″ | 9

* * * * *

[FR Doc. 00-20457 Filed 8-10-00; 8:45 am]

BILLING CODE 6712-01-P